DEPARTMENT OF JUSTICE

Office of Juvenile Justice and Delinquency Prevention

[OJP(OJJDP)-1359]

Program Announcement for Multisystem Decisionmaking Training and Technical Assistance Project

AGENCY: Office of Juvenile Justice and Delinquency Prevention, Office of Justice Programs, Justice.

ACTION: Notice of solicitation.

SUMMARY: This Program Announcement provides the background information that eligible training and technical assistance providers need to apply for funds to conduct the Office of Juvenile Justice and Delinquency Prevention's (OJJDP's) Multisystem Decisionmaking Training and Technical Assistance Project. OJJDP invites applications from public and private agencies, organizations, institutions, and others that have the necessary technical skills and demonstrated expertise to build the capacity of and transfer knowledge to Safe Start sites to establish a multisystem case analysis process that informs cross-agency policies and frontline practices. Safe Start is a program that promotes collaboration among service providers for children and families. It prevents and reduces the impact of children's exposure to violence through a comprehensive system of supports and services that effectively meets the needs of these children and their families at any point on the service continuum.

DATES: Applications must be received by August 19, 2002.

Application Kit: Interested applicants can obtain the OJJDP Application Kit by calling the Juvenile Justice Clearinghouse at 800-638-8736, by sending an e-mail request to puborder@ncjrs.org, or through fax-on-demand. (For fax-on-demand, call 800-638-8736, select option 1, then select option 2 and enter the following four-digit numbers: 9119, 9120, 9121, and 9122. Application kits will be faxed in four sections because of the number of pages.) The Application Kit is also available online at www.ncjrs.org/pdffiles1/ojjdp/sl000480.pdf.

Delivery Instructions: All applicants must submit the original application (signed in blue ink) and five copies. Applications should be unbound and fastened by a binder clip in the top left-hand corner.

OJJDP strongly recommends that applicants number each page of the application. To ensure that applications are received by the due date, applicants should use a mail service that documents the date of receipt. Because OJJDP anticipates sending applicants written notification of application receipt approximately 4 weeks after the solicitation closing date, applicants are encouraged to use a traceable shipping method. Faxed or e-mailed applications will not be accepted. Postmark dates will not be accepted as proof of meeting the deadline. Applications received after August 19, 2002, will be deemed late and may not be accepted. The closing date and time apply to all applications. To ensure prompt delivery, please adhere to the following guidelines:

Applications sent by U.S. mail: Use registered mail to send applications to the following address: Office of Juvenile Justice and Delinquency Prevention, c/o Juvenile Justice Resource Center, 2277 Research Boulevard, Mail Stop 2K, Rockville, MD 20850. In the lower left-hand corner of the envelope, clearly write “Multisystem Decisionmaking Training and Technical Assistance Project.”

Applications sent by overnight delivery service: Allow at least 48 hours for delivery. Send applications to the following address: Office of Juvenile Justice and Delinquency Prevention, c/o Juvenile Justice Resource Center, 2277 Research Boulevard, Mail Stop 2K, Rockville, MD 20850; 800-638-8736 (phone number required by some carriers). In the lower left-hand corner of the envelope, clearly write “Multisystem Decisionmaking Training and Technical Assistance Project.”

Applications delivered by hand: Deliver by August 19, 2002, to the Juvenile Justice Resource Center, 2277 Research Boulevard, Rockville, MD 20850; 301-519-5535. Hand deliveries will be accepted daily between 8:30 a.m. and 5 p.m. EST, excluding Saturdays, Sundays, and Federal holidays. Entrance to the resource center requires proper photo identification.

FOR FURTHER INFORMATION, CONTACT: Kristen Kracke, Program Manager, Child Protection Division, Office of Juvenile Justice and Delinquency Prevention, 202-616-3649. (This is not a toll-free number.)

SUPPLEMENTARY INFORMATION:

Purpose

The purpose of the Multisystem Decisionmaking Training and Technical Assistance (MSDMTTA) Project is to build capacity in communities, initially and primarily Safe Start initiative communities, to collaboratively conduct a comprehensive, data-driven, decisionmaking model for improving services and systems for agencies serving children exposed to violence and their families. The key agencies supported in this model are those systems that work with children who have been victims of maltreatment or who have witnessed adult violence in the home, the perpetrators of their victimization, and their families. The agencies include law enforcement, courts, domestic violence service providers, child protective services, mental health providers, and medical systems.

This purpose will be carried out by providing direct, intensive training and technical assistance (TTA) to help communities conduct multisystem case analysis and develop structured decisionmaking tools to inform their systems improvement.

Background

Children who have been maltreated or who have witnessed violence are often brought into a service delivery system that does not respond effectively and efficiently to the needs of children and families. This ineffectiveness results in negative outcomes for children and a waste of limited resources to help families in need. For example, the news media highlights traumatic events that occur to children every day that might have been prevented with appropriate attention to their problems. Children are being “lost” as cases are transferred between law enforcement, prosecution, child protection services, and other agencies. Difficult decisions are made for children every day as child protection workers decide the level of risk for each child. Sometimes these decisions are wrong; for example, a child dies in the home at the hands of an abuser after the child protection agency has closed a case of reported abuse, or, conversely, a child is removed from the home and family ties are severed when family support services might have proven effective. To help workers make these difficult decisions consistently and accurately, their high-stakes decisionmaking must be supported with structured, reliable tools at key decision points. In addition, agencies need better information so they can allocate their resources to best meet the needs of children.

Communities need support to analyze their child-serving systems across multiple agencies to gain knowledge about outcomes for the children they serve and to identify gaps and inefficiencies. Furthermore, communities need help in using this analysis to plan and develop tools to assist child-serving workers in making the best decisions possible for children and families. Using structured tools, which increase the consistency and validity of decisionmaking, ensures that children will receive the right level or intensity of services. Child protection workers will be able to assess the level of risk posed to each child and determine the appropriate level of support needed. As a result, agencies can provide the appropriate services to each child when needed. Agencies also can track their cases and staff caseloads more effectively and have necessary data to inform the overall planning for agency resources. Cases can be handled across agencies without being “lost in the shuffle” and agencies can determine together how best to maximize limited resources on behalf of the families they serve.

Communities using elements of a multisystem decisionmaking (MSDM) approach have learned more about their own systems and have been able to set targeted goals for their collaborative work. They have established some of the following goals and objectives:

• More serious child abuse and neglect cases will be criminally charged.

• More children will remain safe from further abuse—subsequent harm to children will be reduced.

• More court intake cases will reach dispositional findings within 100 days.

• Average caseload sizes will be reduced to meet national standards.

• Case decisions will be made more consistently.

• Families at highest risk will receive more targeted resources.

• Agency and cross-agency planning will be informed by more case-level data.

System improvement is critically needed because research and statistics demonstrate that children are victims of and witnesses to violence every day; the effects of this trauma can be lifelong if systems and supports do not respond immediately and effectively.

Throughout America, Millions of Children Are Exposed to Violence at Home, in Their Neighborhoods, and in Their Schools

A 1994 study (Taylor et al.) found that 1 of every 10 children treated in the Boston City Hospital primary care clinic had witnessed a shooting or stabbing before age 6. Almost all (94 percent) of the children had been exposed to multiple forms of violence, and half of them had been exposed to violence within the past month. Half of these children witnessed such violence in the home and half witnessed it in the streets. The average age of these children was 2.7 years.

Studies estimate that each year between 3.3 million (Carlson, 1984) and 10 million (Straus, 1991) children in the United States witness violence in the home, including behaviors that range from insults to fatal assaults with guns and knives. Family violence encompasses violence between siblings. According to one study, 77 percent of children under age 9 had recently been violent toward a sibling (Steinmetz, 1977). Another study found that 80 percent of children committed violent acts toward their siblings every year (Straus, Gelles, and Steinmetz, 1980).

Young Children Are Particularly at Risk of and Affected by Violence and Exposure to Violence

In a comparison study of census data from five cities, domestic violence was shown to have occurred disproportionately in homes with children under age 5. Children in this age group also were more likely than older children to witness multiple acts of domestic violence associated with substance abuse (Fantuzzo et al., 1997). Research indicates that younger children are more vulnerable to victimization because of their age. Children's exposure to violence and maltreatment is significantly associated with increased depression, anxiety, posttraumatic stress, anger, increased alcohol and drug abuse, and lower academic achievement (Zero to Three, 1994). Exposure to violence shapes how children remember, learn, and feel. Numerous studies cite the connection between abuse and neglect of a child and later development of violent and delinquent behavior (Thornberry, 1994; Wright and Wright, 1994; Widom, 1992). Children who experience violence either as victims or as witnesses are at increased risk of becoming violent themselves. This danger is greatest for the youngest children, who depend almost completely on their parents and other caregivers to protect them from trauma.

Children Exposed to Violence Do Not Receive Adequate Intervention or Treatment To Address Harmful Aftereffects

According to the National Advisory Board on Child Abuse and Neglect (U.S. Department of Health and Human Services, 1995), more than 90 percent of children who were abused or neglected did not get the services they needed. Rarely are such children provided counseling or help in dealing with the traumatic effects of maltreatment. Also, too often, referrals to victims services made during investigations of domestic violence and other violent crimes are limited to the adult victim; adult and child victims and witnesses do not usually receive necessary services.

There is broad consensus that current juvenile justice practice is often ineffective. Services are crisis oriented and divide children and families into distinct, often arbitrary, categories. Communication among service providers is often poor, resulting in an inability to treat families holistically, meet their needs, and develop comprehensive solutions (Melaville and Blank, 1993).

Toward a Coordinated Professional Response

As the juvenile justice field continues to recognize prevention as central to its mission and to focus its efforts on those factors that place children at risk for delinquent or criminal activity, practitioners are increasingly aware that the segmentation and fragmentation of community service delivery systems are serious obstacles to effective treatment for at-risk children (Gerry and Morrill, 1990). In addition, practitioners and policymakers are beginning to realize the effectiveness of engaging communities in addressing problems related to delinquency and crime.

The Federal Government has a role not only in reorganizing and restructuring its own activities to promote and facilitate such reorganization on the community level, but also in stimulating improvement of community-based systems by providing financial and technical assistance to communities engaged in collaborative processes (Conly and McGillis, 1996). In recent years, Federal agencies have funded several programs to promote collaboration among service providers for children and families. One of these initiatives, Safe Start, prevents and reduces the impact of children's exposure to violence through a comprehensive system of supports and services that effectively meets the needs of these children and their families at any point on the service continuum. To accomplish this vision, Safe Start communities comprehensively assess and redesign their current systems. Safe Start communities and other communities engaging in systems change need increased support in cross-agency case analysis and decisionmaking to provide research-based tools and processes and increased capacity building.

Goal

This project's goal is to create an MSDM model that engages key agencies collaboratively in a data-driven process for assessing, identifying, implementing, and monitoring critical systems improvements and decision points at the cross-agency, agency, and point of service/individual case levels.

Objectives

The project will develop and implement a TTA methodology to build capacity in collaborative communities, initially and primarily Safe Start sites, to achieve the above goal.

Performance Measures

To comply with the Government Performance and Results Act (GPRA), Public Law 103-62, this solicitation notifies applicants that they are required to collect and report data that measure the results of the programs/efforts implemented with this grant. To ensure the accountability of these data, for which the Office of Justice Programs is responsible, the following performance measures are provided.

For GPRA purposes, OJJDP will collect the following data from the grantee and provide a report annually. Should program expansion or a formal evaluation be undertaken in the future, data collected from the grantee will provide a crucial baseline for the MSDMTTA Project.

• Number of onsite training sessions delivered to the 14 sites implementing MSDM.

• Number of technical assistance deliveries provided to the 14 sites implementing MSDM.

• A specific count and tracking of the following products developed to transfer knowledge to and build local capacity for MSDM in each of the 14 sites: handbooks, toolkits, conferences, Web sites, and publications.

• Data documenting the grantee's ability to enhance MSDM capacity in the community through development of a tailored, structured, decisionmaking tool at the case level in each community and development of action plans to address system improvements for cross-agency policy and practice.

Program Strategy

OJJDP will competitively select one TTA provider to receive a cooperative agreement worth up to $1,472,000 for a 24-month project and budget period and to provide TTA for up to 14 sites.

The overall strategy for implementing an MSDM model involves the following:

• Using data to enhance existing practices and create new practices, policies, and procedures within and across agencies working to prevent violence against children.

• Focusing resources on interventions with the greatest likelihood of producing positive outcomes for children and families.

• Basing decisions on empirical knowledge of the issues and challenges inherent in bringing about positive change.

• Using valid assessment and screening tools.

• Integrating prevention, intervention, and accountability measures.

• Working across relevant agencies.

The TTA should help these collaborative communities build local capacities in the following areas:

• Gathering and analyzing cohort data to identify possible areas for improvement of coordinated responses.

• Improving the consistency and validity of decisions through a guided decisionmaking process at both the individual case level, agency level, and systems level.

• Targeting resources more appropriately and effectively to children and families.

• Developing a set of community outcomes based on collaborative data analysis and tracking progress.

• Using the aggregation of case information to guide systems' practices for continuous quality improvement.

• Formulating clear policies and protocols within and between involved systems based on a data-driven process.

• Improving the efficiency and effectiveness of all involved systems.

Project Phases

The TTA project must include the following activities, which may be divided into phases as appropriate:

• Development of a conceptual framework for the model.

• Phased implementation of TTA in sites; this may involve site exploration and selection. (Note: Safe Start sites' use of TTA will be voluntary; therefore, a mutual exploratory process will assess model and TTA methodology “fit” as well as readiness of site.)

• Site consultation and readiness building.

• Customized site TTA plan development.

• Implementation of customized site-specific TTA (may be phased).

• Local capacity building.

• Knowledge transfer.

• National dissemination.

• Project evaluation.

Activities and Services

Intensive TTA will be needed to provide a sufficient level of capacity building. This will involve consultation and onsite support in a variety of cross-agency or multisystem activities, including but not limited to developing tools for the model and assisting each community in the following activities: customizing tools; developing a data analysis plan; selecting the research question for the case review and identifying samples and methodologies; choosing, training, and supervising case reviewers from within the collaborating agencies; building a database and inputting data; analyzing, presenting, and discussing implications of the data in cross-agency collaborative meetings; drafting findings and developing change strategies; and developing action plans to address systems improvement needs. In addition to supporting the above activities for cross-agency and multisystem analysis, TTA activities will need to help collaborating agencies adopt and customize tools for structuring individual case decisions based on analysis and assessment data within agencies. Such tasks will build on the analytical work referenced above and also will include determining policies and procedures; collecting and entering assessment data (for use in management reports) to effectively monitor services delivery and evaluate case outcomes; training supervisors and administrators in the use of management reports as tools for improving operations and outcomes for children; and preparing management reports to guide decisions related to resource development, effectiveness, and staffing.

As a TTA resource for communities interested in implementing MSDM, initially and primarily in Safe Start sites, the selected applicant will be required to tailor the TTA approach to the local and national contexts. For these Safe Start sites, the selected applicant will be required to collaborate and communicate closely with local and national project staff, local and national evaluators, and especially the lead national TTA coordinator for Safe Start.

Eligibility Requirements

OJJDP invites applications from public and private agencies, organizations, institutions, and individuals experienced in TTA. Private, for-profit organizations must agree to waive any profit or fee. Joint applications from two or more eligible applicants are welcome; however, one applicant must be clearly indicated as the primary applicant (for correspondence, award, and management purposes) and the others indicated as coapplicants. To be eligible for consideration, applicants must strictly adhere to the guidelines for preparing and submitting applications regarding page length, layout, and submission deadlines.

Applicants must have demonstrated expertise in the areas of child maltreatment and domestic violence and also knowledge of the child protection, court, law enforcement, domestic violence, medical, and mental health systems and other related systems. Applicants must also demonstrate functional expertise in the provision of TTA, systems improvement, data analysis including case review, case flow, research, tool validity and reliability, collaboration, and organizational change.

Selection Criteria

Applicants must submit a project narrative that describes their overall approach to the MSDMTTA project, including a description of the conceptual and organizational framework for their approach and a detailed strategy.

All applicants will be evaluated and rated by a peer review panel according to the selection criteria outlined below. Applicants must use the selection criteria headings for their program narrative and present information in the order shown. The selection criteria will be used to determine the extent of each applicant's responsiveness to program application requirements, compliance with eligibility requirements, organizational capability, and thoroughness and innovation in responding to strategic project implementation issues. Staff and peer reviewer recommendations are advisory only. The OJJDP Administrator will make the final award decision, taking into consideration geographic diversity and other issues.

Problem(s) To Be Addressed (10 Points)

Applicants must describe the effect of children's exposure to violence, the need to improve outcomes for children exposed to violence and their families, and the need to improve services and systems for these children. A discussion of how these systems improvements can directly improve outcomes for children and families should also be included.

Goals and Objectives (10 Points)

Applicants must outline the vision for an MSDM model and describe how the agencies and systems involved will operate when the model is implemented. The vision must include a clear discussion of the proposed project goals and objectives as they logically relate to an MSDM model. Applicants also must outline specific goals and objectives for TTA to support implementation of the model and build local capacity. Objectives must be quantifiable, measurable, and attainable within the project timeframe (24 months).

Project Design (25 Points)

Applicants must describe their strategy for implementing MSDM in 14 communities, initially and primarily in Safe Start sites, and for providing TTA support and building local capacity. The project design should describe the MSDM model and its framework, method, and tools; the TTA approach embedded within the model to help the 14 communities successfully implement it; and a plan for establishing transfer of knowledge and broad dissemination in the form of toolkits, handbooks, media outlets, and national training (beyond the initial 14 communities). Applicants should clearly outline and specify project deliverables.

Management and Organizational Capability (40 Points)

Section One—Management (20 Points). Applicants must outline the proposed staffing structure and management plan for the project, including at least one full-time, high-level, experienced lead coordinator. Applicants are to identify the roles and responsibilities of each involved agency, committee board, or other entity and explain its relationship to the overall effort. In addition, applicants must name and describe the core management team and the capabilities and experience of all staff and consultants who will participate on the management team or play lead roles. Include resumes of key personnel in the appendixes and indicate the percentage of time required for each named staff member or consultant and the supervision or management plan. As a part of this management plan, applicants must describe the management practices that will be used to evaluate staff and program progress and to ensure corrective action. (See competencies described in the “Eligibility Requirements” section.)

Section Two—Organizational Capability (20 points). Applicants must provide a brief overview of the lead agency's knowledge of and experience with children, youth, and family issues, particularly as they relate to preventing and reducing the effect of exposure to violence. Applicants must have demonstrated expertise in the areas of child maltreatment and domestic violence and also knowledge of the child protection, court, law enforcement, domestic violence, medical, and mental health systems and other related systems. In addition, applicants must demonstrate detailed and specific experience in provision of TTA; systems improvement, data analysis including case review, case flow, research, tool validity and reliability, collaboration, and organizational change. The applicant should demonstrate experience that is consistent with the size and scope of the project. Applicants must have the ability and willingness to coordinate and collaborate with OJJDP, the Safe Start initiative, and all Safe Start relevant partners, especially the national Safe Start lead TTA provider. Furthermore, applicants should demonstrate a willingness and an ability to transfer knowledge to and build local capacity of communities to a level at which a consultant or consulting firm/TTA provider is no longer needed.

Budget (15 Points)

Applicants must provide a detailed budget and supporting narrative that is complete, detailed, reasonable, allowable, and cost effective in relation to the activities to be performed. It must also indicate the extent to which resources have been committed for the 24 months of the budget and project period.

Appendixes

Supplemental material can be included as an appendix to demonstrate any of the above selection criteria, including but not limited to staff resumes and MSDM tools.

Format

The narrative portion of the application must not exceed 50 pages (excluding forms, assurances, and appendixes) and must be submitted on 8½- by 11-inch paper and double spaced on one side of the paper in a standard 12-point font, with each page numbered sequentially. The double spacing requirement applies to all parts of the program narrative and project abstract, including any lists, tables, bulleted items, or quotations. These standards are necessary to maintain fair and uniform consideration among all applicants. If the narrative and appendixes do not conform to these standards, OJJDP will deem the application ineligible for consideration.

Award Period

The MSDMTTA Project will be funded in the form of a cooperative agreement for a 24-month budget and project period.

Award Amount

Applicants may apply for up to $1,472,000 for the 24-month budget and project period as a one-time award.

Catalog of Federal Domestic Assistance (CFDA) Number and OJJDP Application Kit

For this program, the CFDA number, which is required on Standard Form 424, Application for Federal Assistance, is 16.730. This form is included in the OJJDP Application Kit, which can be obtained by calling the Juvenile Justice Clearinghouse at 800-638-8736 or sending an e-mail request to puborder@ncjrs.org. The Application Kit is also available online at ncjrs.org/pdffiles1/ojjdp/s1000480.pdf.

Coordination of Federal Efforts

To encourage better coordination among Federal agencies in addressing State and local needs, the U.S. Department of Justice is requesting applicants to provide information on the following: (1) Active Federal grant award(s) supporting this or related efforts, including awards from the U.S. Department of Justice; (2) any pending application(s) for Federal funds for this or related efforts; and (3) plans for coordinating any funds described in items (1) and (2) with the funding sought by this application. For each Federal award listed, applicants must include the program or project title, the Federal grantor agency, the amount of the award, and a brief description of the purpose. The term “related efforts” is defined for these purposes as one of the following:

• Efforts for the same purpose (i.e., the proposed award would supplement, expand, complement, or continue activities funded with other Federal grants).

• Another phase or component of this program or project (e.g., to implement a planning effort funded by other Federal funds or to provide a substance abuse treatment or education component within a criminal justice project).

• Services of some kind (e.g., technical assistance, research, or evaluation) to the program or project described in the application.

Delivery Instructions

Use registered mail to send applications to the following address: Office of Juvenile Justice and Delinquency Prevention, c/o Juvenile Justice Resource Center, 2277 Research Boulevard, Mail Stop 2K, Rockville, MD 20850; 301-519-5535. In the lower left-hand corner of the envelope, clearly write “Multisystem Decisionmaking Training and Technical Assistance Project.”

Due Date

Applicants are responsible for ensuring that the original and five copies of the application package are received by August 19, 2002.

Contacts

For further information, contact Kristen Kracke, Program Manager, Child Protection Division, OJJDP, 202-616-3649, or send an e-mail inquiry to krackek@ojp.usdoj.gov. Include a contact name and phone number in the message.

Applicants may also contact the following:

Juvenile Justice Clearinghouse, 800-638-8736, ojjdp.ncjrs.org.

National Clearinghouse on Child Abuse and Neglect, 800-394-3366, calib.com/nccanch.

National Center for Children Exposed to Violence, 877-49-NCCEV, nccev.org.

Suggested Readings

Carlson, B.E. 1984. Children's observations of interparental violence. In Battered Women and Their Families, edited by A.R. Roberts. New York, NY: Springer, pp. 147-167.

Conly, C., and McGillis, D. 1996. The Federal role in revitalizing communities and preventing and controlling crime and violence. National Institute of Justice Journal 231:24-30.

Fantuzzo, J.W., Boruch, R., Beriama, A., Atkins, M., and Marcus, S. 1997. Domestic violence and children: Prevalence and risk in five major cities. Journal of the American Academy of Child and Adolescent Psychiatry 36(1):116-122.

Gerry, M., and Morrill, W. 1990. Integrating the delivery of services to school-aged children at risk: Toward a description of American experience and experimentation. Octopus Times 1:61-66.

Melaville, A., and Blank, M. 1993. Together We Can: A Guide for Crafting a Profamily System of Education and Human Services. Washington, DC: U.S. Departments of Education and Health and Human Services.

Poe-Yamagata, E. 1997. Number of children reported to protective service agencies, 1980-1996. Adapted from Sickmund, M., Snyder, H., and Poe-Yamagata, E. 1997. Juvenile Offenders and Victims: 1997 Update on Violence. Washington, DC: U.S. Department of Justice, Office of Justice Programs, Office of Juvenile Justice and Delinquency Prevention.

Steinmetz, S.K. 1977. The Cycle of Violence: Assertive, Aggressive, and Abusive Family Interaction. New York, NY: Praeger.

Straus, M.A. 1991. Children as witnesses to marital violence: A risk factor for life long problems among a nationally representative sample of American men and women. Paper presented at the Ross Roundtable on Children and Violence, Washington, DC.

Straus, M., Gelles, R., and Steinmetz, S. 1980. Behind Closed Doors: Violence in the American Family. Garden City, NY: Anchor.

Taylor, L., Zuckerman, B., Harik, V., and Groves, B.M. 1994. Witnessing violence by young children and their mothers. Journal of Developmental and Behavioral Pediatrics 15(2):120-123.

Thornberry, T.P. 1994. Violent Families and Youth Violence. Fact Sheet. Washington, DC: U.S. Department of Justice, Office of Justice Programs, Office of Juvenile Justice and Delinquency Prevention.

U.S. Department of Health and Human Services. 1995. A Nation's Shame: Fatal Child Abuse and Neglect in the United States. A Report of the U.S. Advisory Board on Child Abuse and Neglect. Washington, DC: U.S. Department of Health and Human Services.

Widom, C.S. 1992. Cycle of Violence. Washington, DC: U.S. Department of Justice, Office of Justice Programs, National Institute of Justice.

Wright, K.N., and Wright, K.E. 1994. Family Life, Delinquency, and Crime: A Policymaker's Guide. Washington, DC: U.S. Department of Justice, Office of Justice Programs, Office of Juvenile Justice and Delinquency Prevention.

Zero to Three/National Center for Clinical Infant Programs. 1994. Caring for Infants and Toddlers in Violent Environments: Hurt, Healing, and Hope. Washington, DC: Zero to Three.

Dated: July 12, 2002.
J. Robert Flores,
Administrator, Office of Juvenile Justice and Delinquency Prevention.

[FR Doc. 02-18204 Filed 7-18-02; 8:45 am]

BILLING CODE 4410-18-P